DEPARTMENT OF AGRICULTURE

Natural Resources Conservation Service

Walnut Bayou Irrigation Project in the Red River Watershed, Little Rock, AR

AGENCY: Natural Resources Conservation Service, USDA.

ACTION: Notice of intent to prepare an environmental impact statement.

SUMMARY: Pursuant to section 102(2)(c) of the National Environmental Policy Act of 1969; the Council on Environmental Quality Guidelines (40 CFR part 1500); and the Natural Resources Conservation Service Regulations (7 CFR part 650); the Natural Resources Conservation Service, U.S. Department of Agriculture, announces its intention to prepare an Environmental Impact Statement (EIS) to evaluate the impacts of an irrigation project in the Red River Watershed in Little River County, Arkansas.

The measures proposed by NRCS include the diversion of water from the Red River to irrigate 23,500 acres of agricultural land in the Walnut Bayou Irrigation District. The Draft EIS will assess the potential environmental and socioeconomic impacts of the NRCS proposed action and a range of alternatives. The Draft EIS analysis will incorporate mitigation measures which will minimize to the greatest extent practicable any potential adverse environmental or socioeconomic impacts.

Public Participation: The NRCS invites full participation to promote open communication and better decision making. All persons and organizations that have an interest in the Walnut Bayou Irrigation Project as it affects Little River County and the environment are urged to participate in the NEPA environmental analysis process.

Public comments are welcomed throughout the NEPA process. Opportunities for public participation include: (1) The EIS scoping period when comments on the NRCS proposal will be solicited through various media; (2) during the 45-day review and comment period for the published Draft EIS; and (3) for 30 days after the publication of the Final EIS.

Scoping Process: NRCS is soliciting public comments indicating what issues and impacts the public believes should be encompassed within the scope of the EIS analysis, any concerns they might have about the NRCS proposal and alternatives, and any ideas they might have about addressing irrigation for the Walnut Bayou Irrigation District.

FOR FURTHER INFORMATION CONTACT: Alan Rees, Biologist, Natural Resources Conservation Service, Room 3416, Federal Building, 700 West Capitol Avenue, Little Rock, Arkansas 72201-3225. Comments may also be submitted by sending a facsimile to (501) 301-3189, or by e-mail to alan.rees@ar.usda.gov. Respondents should provide mailing address information and indicate if they wish to be included on the EIS mailing list. All individuals on the mailing list will receive a copy of the Draft EIS.

Responsible Official: The State Conservationist, NRCS, Little Rock, Arkansas is the responsible official for this proposed action.

Decisions To Be Made: The responsible NRCS official will decide whether to approve the proposal, an alternative to the proposal, or no action.

Need for the Proposal: The proposal is needed to provide a dependable supply of irrigation water to cropland during the growing season.

Purpose of the Proposal: The purpose of the proposal is prevention of crop damage due to a lack of water for the existing crop composition.

SUPPLEMENTARY INFORMATION: The Walnut Bayou project area encompasses approximately 23,500 acres in Little River County in Southwest Arkansas. The project area begins at the Arkansas/Oklahoma state line and continues east along Walnut Bayou to its confluence with the Red River. The Red River is the largest source of surface water in the project area, and has about 48,000 square miles of drainage upstream from Arkansas. Corn, soybeans, pecans, grain sorghum, rice, and wheat are the primary crops produced within the project area.

Preliminary Issues: Among the issues that NRCS plans to consider in the scope of the EIS analysis are:

• The potential impacts on endangered species;

• The potential for soil salinization;

• The economic and social impacts of the proposed action and alternatives;

• The potential for floodplain impacts;

• The costs and benefits of the proposed action and alternatives; and

• Analysis of known and foreseeable cumulative effects on the Red River.

Preliminary Alternatives: The Draft EIS will assess the potential environmental impacts of a range of alternatives. The preliminary alternatives for the Draft EIS include: (1) On-farm irrigation water storage with no withdrawal from the Red River; (2) on-farm irrigation water storage with additional water withdrawn from the Red River; (3) on-farm conservation measures, no irrigation water storage, with water withdrawn from the Red River; and (4) no action. The alternatives will be refined and supplemented, as appropriate, based on input by the public and agencies during the public scoping process.

Alternative 1—On-farm irrigation water storage with no withdrawal from the Red River. Under this alternative runoff from rainfall that falls upon the project area would be captured, stored in reservoirs, and used for irrigation. Other on-farm water conservation practices such as tailwater recovery pits and pipelines would also be installed as appropriate, according to individual farm irrigation water management plans. No water would be used from the Red River and there would be no district water distribution system.

Alternative 2—On-farm irrigation water storage with additional water withdrawn from the Red River. Under this alternative runoff from rainfall that falls upon the project area would be captured, stored in reservoirs, and used for irrigation. Other on-farm water conservation practices such as tailwater recovery pits and pipelines would also be installed as appropriate, according to individual farm irrigation water management plans. Water, as permitted by the Arkansas Soil and Water Conservation Commission, would be withdrawn from the Red River and distributed to farms in the project area utilizing canals, pipelines, and some natural channels.

Alternative 3—On-farm conservation measures, no irrigation water storage, water withdrawn from the Red River. Under this alternative on-farm water conservation practices such as tailwater recovery pits and pipelines would also be installed as appropriate, according to individual farm irrigation water management plans. Water, as permitted by the Arkansas Soil and Water Conservation Commission, would be withdrawn from the Red River and distributed to farms in the project area by utilizing canals, pipelines, and some natural channels.

Alternative 4—No Action. Federal agencies are required to evaluate the impacts of a No Action alternative when preparing an EIS, even though the alternative would not meet the agency's purpose and need.

Permits or Licenses Required: This proposal is being planned under a Congressional earmark. A nonriparian use permit from the Arkansas Soil and Water Conservation Commission would be required to withdraw water from the Red River for nonriparian users. A permit would be required from the U.S. Army Corps of Engineers under the Clean Water Act (CWA), section 404 for any project that would impede the flow of waters of the U.S. or that would affect any wetlands. A FEMA floodplain permit from effected National Flood Insurance Program Communities may be needed if flood waters of a one hundred year flood are altered. Approval from the State Historic Preservation Office would be required if any National Register-eligible historic properties would be effected. Consultation with the U.S. Fish and Wildlife Service would be required if the proposal may effect any species listed as threatened or endangered under the Endangered Species Act.

Estimated Dates for Draft EIS and Final EIS: NRCS expects to file the Draft EIS with the Environmental Protection Agency (EPA) and to have it available for public review and comment by July 30, 2004. At that time, the EPA will publish a Notice of Availability (NOA) of the Draft EIS in the Federal Register. The public comment period on the Draft EIS will be a minimum of 45 days from the date the EPA published the NOA.

After the comment period ends on the Draft EIS, the comments will be analyzed, considered, and responded to by NRCS in preparing the Final EIS. The Final EIS is scheduled for completion by October, 2004. The responsible officials will consider the comments, responses, and environmental consequences discussed in the Final EIS, and applicable laws, regulations, and policies in making a decision regarding this proposed action. The responsible officials will document the decision and reasons for the decision in a Record of Decision. That decision will be subject to appeal in accordance with 36 CRF part 215.

Dated: May 20, 2004.
Kalven L. Trice,
State Conservationist.

[FR Doc. 04-12580 Filed 6-2-04; 8:45 am]

BILLING CODE 3410-16-P